DEPARTMENT OF COMMERCE

National Oceanic and Atmospheric Administration

50 CFR Part 660

[Docket No. 070227047-7047-01; I.D. 020405C]

RIN 0648-AS96

Fisheries Off West Coast States; West Coast Salmon Fisheries; Amendment 14; Essential Fish Habitat Descriptions for Pacific Salmon

AGENCY: National Marine Fisheries Service (NMFS), National Oceanic and Atmospheric Administration (NOAA), Commerce.

ACTION: Proposed rule; request for comments.

SUMMARY: NMFS proposes regulations to implement Amendment 14 to the Pacific Salmon Fishery Management Plan (Salmon FMP) to identify and describe essential fish habitat (EFH) for Pacific salmon. The intent of this proposed rule is to codify the EFH identifications and descriptions for freshwater and marine habitats of Pacific salmon managed under the Salmon FMP, including Chinook, coho, and pink salmon. This proposed rule complies with an order issued by the U.S. District Court of Idaho directing NMFS to codify the EFH identifications and descriptions contained in the Salmon FMP. This proposed EFH rule is separate and distinct from the December 2004 proposed critical habitat rules in which NMFS proposed critical habitat for seven groupings of Chinook and coho salmon listed as threatened or endangered species under the Endangered Species Act (ESA). Where EFH and critical habitat overlap, NMFS will generally merge the results of both consultations into one response package to maximize regulatory efficiencies whenever possible.

DATES: Comments must be received by July 19, 2007.

ADDRESSES: You may submit comments or obtain a supplemental regulatory impact review to amendment 14 to the Pacific Salmon Fishery Management Plan by any of the following methods:

• E-mail: EFH.salmon@NOAA.gov. Include in the subject line the following identifier “RIN 0648-AS96.”

• Federal e-Rulemaking Portal: http://www.regulations.gov.

• Mail: For submitting paper, disk or CD ROM comments. Frank Lockhart, NMFS Northwest Region, 7600 Sand Point Way NE, Seattle, WA 98115.

• Fax: 206-526-6736.

FOR FURTHER INFORMATION CONTACT: Frank Lockhart at 206-526-6142.

SUPPLEMENTARY INFORMATION: Among other things, the Magnuson-Stevens Fishery Conservation and Management Act (Magnuson-Stevens Act) authorizes development of Federal Fishery Management Plans (FMPs), and Federal regulation of domestic fisheries under those FMPs, within the 200-mile U.S. Exclusive Economic Zone (EEZ). 16 U.S.C. 1811, 1853. To assist the Secretary of Commerce (Secretary) in carrying out specific management and conservation duties, the Magnuson-Stevens Act created eight regional fishery management councils. Under the Magnuson-Stevens Act, an FMP and any amendments are usually originated by one of the eight regional fishery management councils, 16 U.S.C. 1852, and must then be approved by the Secretary of Commerce. 16 U.S.C. 1854.

Essential Fish Habitat

The Magnuson-Stevens Act, originally enacted in 1976, has been amended several times. In 1996, the Sustainable Fisheries Act (SFA) amended the Magnuson-Stevens Act adding provisions aimed at halting overfishing and rebuilding overfished fisheries, reducing bycatch, and assessing and minimizing the impacts of management measures on fishing communities. Congress articulated in its findings that:

one of the greatest long-term threats to the viability of commercial and recreational fisheries is the continuing loss of marine, estuarine, and other aquatic habitats. Habitat considerations should receive increased attention for the conservation and management of fishery resources of the United States. 16 U.S.C. 1801(a).

In making such findings, Congress declared one of the purposes of the Magnuson-Stevens Act to be the promotion of “the protection of [EFH] in the review of projects conducted under Federal permits, licenses, or other authorities that affect or have the potential to affect such habitat.” 16 U.S.C. 1802(b)(7). To ensure habitat considerations receive increased attention for the conservation and management of fishery resources, the amended Magnuson-Stevens Act required each existing, and any new, FMP to:

describe and identify essential fish habitat for the fishery based on the guidelines established by the Secretary under section 1855(b)(1)(A) of this title, minimize to the extent practicable adverse effects on such habitat caused by fishing, and identify other actions to encourage the conservation and enhancement of such habitat. 16 U.S.C. 1853(a)(7).

“EFH” is defined in the Magnuson-Stevens Act as “those waters and substrate necessary to fish for spawning, breeding, feeding, or growth to maturity.” 16 U.S.C. 1802(10).

The EFH regulations (50 CFR 600.815) establish additional guidance to the Councils on how to identify and describe EFH. The regulations indicate that Councils should:

obtain information to describe and identify EFH from the best available sources, including peer reviewed literature, unpublished scientific reports, data files of government resource agencies, fisheries landing reports, and other sources of information.

The regulations identify four classification levels to organize available information relevant to EFH identifications and descriptions. Level 1 information is limited to species distributional data; level 2 information includes habitat-related densities; level 3 includes growth, reproduction or survival rates within habitats; and level 4 consists of production rates by habitat. Councils are encouraged to identify and describe EFH based on the highest level of detail (i.e., level 4). Readers are encouraged to see the EFH regulations (50 CFR 600.815, subpart J) for a complete description of each of these levels as well as guidance on how the Councils should analyze the available information. In determinating EFH, the regulations advise the Councils to interpret the available information in a “risk-averse fashion to ensure adequate areas are identified as EFH for managed species.” 50 CFR 600.815(a)(1)(iv)(A). For Pacific salmon, the Pacific Fishery Management Council (Pacific Council) obtained information at all four levels for certain freshwater areas, and the first three levels of information for the estuaries; only the first level of information was available for marine areas.

Amendment 14 to the Pacific Salmon Fishery Management Plan

The Secretary approved the Salmon FMP under the Magnuson-Stevens Act, 16 U.S.C. 1801 et seq., in 1978. The Pacific Council has amended the Salmon FMP 14 times since 1978. For more information on the FMP process, refer to 16 U.S.C. 1651-1654.

The Pacific Council identified and described EFH for Pacific salmon in Amendment 14 to the Salmon FMP and submitted it on June 12, 2000, for Secretarial review. After a public comment period, NMFS approved Amendment 14 on September 27, 2000. The Pacific salmon EFH descriptions and identifications were not codified during the development of Amendment 14.

NMFS issues this proposed rule in response to a U.S. District Court of Idaho (Court) order (Case No. CV02-C-EJL, District Court of Idaho) directing NMFS to codify the EFH identifications and descriptions contained in the Salmon FMP. The Court determined that the EFH identifications and descriptions included in the amendment constitute a substantive rule under the Administrative Procedure Act (APA). The Court remanded, but did not vacate, the EFH identifications and descriptions contained in Amendment 14 to NMFS, and ordered NMFS to undertake notice and comment rulemaking to codify identified and described EFH for the Pacific salmon fishery.

The intent of this proposed rule is to codify, in compliance with the Court's order, the EFH identifications and descriptions for freshwater and marine habitats of Pacific salmon managed under the Salmon FMP for Chinook (Oncorhynchus tshawytscha), coho (O. kisutch), and pink (O. gorbuscha) salmon in Washington, Oregon, Idaho and California.

As new information becomes available, the Pacific Council will consider potential modifications to the identifications and descriptions of EFH. The Pacific Council is scheduled to review salmon EFH, pursuant to the review process schedule set up by both the Magnuson-Stevens Act and the EFH regulations at 50 CFR 600.815(a)(10). Upon completion of this 5-year review, the Pacific Council and NMFS may propose changes to the EFH descriptions depending on the level of new information and the effect that information has on the existing EFH identifications and descriptions.

This proposed rule does not contradict or make obsolete the information contained in appendix A of Amendment 14 to the Salmon FMP. Rather, this proposed rule summarizes key features of appendix A and would codify the EFH geographic extent descriptions for Pacific salmon. Appendix A contains important background and supplementary information on EFH, and can be found on the Council's website at http://www.pcouncil.org/salmon/salfmp/a14.html.

Pacific Council Approach to EFH Identification

The Pacific Council chose a comprehensive rather than a limiting approach in the Amendment 14 identification of salmon EFH for the following reasons, all of which made it very difficult to narrowly define EFH geographically. In the marine environment, Pacific salmon distribution is: (1) extensive; (2) varies seasonally and interannually; and (3) has not been extensively sampled in many ocean areas. In estuaries and freshwater, there is a high degree of natural variability in distribution of salmon species and habitat use (e.g., fluctuation in population abundance that can lead to a wider extent of habitat being used during high abundance years and a smaller extent of habitat being occupied during lower abundance years; varying levels of habitat quality; and interannual stream flow variation and water quality changes). For these reasons, the Pacific Council was not able to designate EFH based on fixed attributes of the streams (e.g., channel morphology (channel habitat type), streamflow, water quality, riparian condition, and temperature) because there may be areas of degraded habitat that may still be used by Pacific salmon and considered EFH.

The Pacific Council chose to adopt an inclusive, watershed-based description of EFH using United States Geological Survey (USGS) hydrologic units, because it recognizes the species' use of diverse habitats, considers the variability of freshwater habitat as affected by environmental conditions (droughts, floods, etc.), and reinforces important linkages between aquatic and adjacent upslope areas. A more detailed background on the Pacific Council's approach can be found in appendix A of Amendment 14 to the Salmon FMP.

Consideration of Artificial Barriers

In identifying the upstream extent of EFH, the Pacific Council considered artificial barriers and dams that affect Pacific salmon habitat. Numerous hydropower, water storage, and flood control systems have been built that either block access to areas historically accessible to Pacific salmon or alter the hydrology of downstream reaches. The Pacific Council therefore considered whether more than 50 large impassible barriers in Washington, Idaho, Oregon, and California should be designated as the upstream extent of EFH. These barriers are identified in Table 1 to part 660, subpart H. Should it become feasible for Pacific salmon to have access to or be reintroduced above the impassible dams, the FMP requires the Pacific Council to recommend identifying and describing the areas above the barriers as Pacific salmon EFH. The potential for expansion of EFH under these circumstances is addressed at 50 CFR 600.815(a)(1)(iv)(C) and (F).

Pacific Salmon Biology

The Magnuson-Stevens Act links EFH identifications and descriptions to life history stages, and the physiological, biological, and habitat parameters on which each life stage depends. To accomplish the task of linking these parameters in a meaningful way, the Pacific Council established tables and a narrative that present habitat requirements as they relate to fish life history stage and physiology. The four life history stages are eggs, larvae (alevins), juveniles, and adults. The biological needs include diet, substrate type, water quality, and others. These tables can be found in appendix A of Amendment 14 (Tables A-3, A-4, and A-5).

A brief overview of Pacific salmon life history and habitat requirements is provided below. This information is not intended to be a thorough review of Pacific salmon habitat requirements. Rather, it is intended to provide a sample of the information that supported the Pacific Council's EFH identifications and descriptions. See appendix A of Amendment 14 to the Salmon FMP for more detailed information on habitat use specific to life stage.

Chinook, coho, and pink salmon all have similar life history and habitat requirements; yet all three species have unique survival and reproductive strategies. They are anadromous, and by definition live the first part of their lives in freshwater and the adult part of their lives in marine waters before returning to spawn in freshwater.

For spawning and rearing, these salmon require clean, cold, well-oxygenated water with moderate current. Spawning adults need medium to coarse gravel in which to deposit eggs. Eggs and alevins need well-oxygenated interstitial spaces with continuous water flow. This life stage is susceptible to poor water quality, predation, and physical impacts such as flooding or excessive siltation, which can smother the eggs.

At an age that varies among species, juvenile salmon migrate downstream towards the ocean. During this migration, the juvenile salmon require high water quality and protection from predation. Estuaries provide a mixing zone of saline and freshwater in which the young salmon can adapt to marine waters.

Pacific salmon use large portions of the north Pacific during ocean migration, although patterns vary between species and even between different populations of the same species. It is clear that ocean migration can be extensive. During the ocean phase, salmon are susceptible to predation, fishing mortality, and lack of food resources. The Pacific Council and NMFS considered excluding large portions of the EEZ from EFH designation. However, the best scientific information available was insufficient to support refinement. They chose, therefore, to identify and describe the entire EEZ as EFH for Pacific salmon. The Pacific Council adopted relatively broad EFH descriptions because of the wide ranging life history strategy, the number of species involved, and the limited information on marine distribution.

EFH for Chinook, Coho, and Pink Salmon

Table 1 to part 660, subpart H lists those hydrologic units which are identified as EFH for Chinook, coho, and pink salmon. Table 1 also includes, where appropriate, the names of impassible barriers that represent the upstream extent of Pacific salmon distribution.

To assist Federal agencies and the public, the following three figures depict those 4th field USGS Hydrologic Unit Codes (HUCs) that contain EFH for Pacific salmon. Figure 1 shows HUCs and marine waters that contain EFH for Chinook salmon in Washington, Oregon, California, and Idaho. Figure 2 shows HUCs and marine waters that contain EFH for coho salmon in Washington, Oregon, California, and Idaho. Figure 3 shows HUCs and marine waters that contain EFH for pink salmon in Washington.

EFH in Alaskan Marine Waters

In identifying and describing EFH for Pacific salmon in Amendment 14, the Pacific Council included those areas that have been identified and described as marine EFH for Pacific salmon by the North Pacific Fishery Management Council (North Pacific Council). While the task of identifying and describing EFH in Alaskan waters is the responsibility of the North Pacific Council, the Pacific Council chose to include the reference to Alaskan EFH in Amendment 14 to the Salmon FMP in order to emphasize the relationship within the Pacific Coast ecosystem used by Pacific salmon during their adult migrations. This proposed rule, however, only codifies EFH for Pacific salmon that is within the jurisdiction of the Pacific Council, and does not codify EFH identified and described by the North Pacific Council for Pacific salmon that is found in Alaskan waters under the North Pacific Council's jurisdiction.

Effects of Identifying and Describing EFH

Once EFH is identified and described, the Magnuson-Stevens Act requires that each FMP minimize to the extent practicable adverse effects to EFH. Adverse effects are broadly divided into effects from fishing and nonfishing activities. For impacts to EFH caused by fishing activities, each FMP must consider measures to minimize adverse effects on EFH, including EFH identified and described under other Federal FMPs. These measures may include equipment restrictions, time/area closures, or harvest limits.

In addition, the Magnuson-Stevens Act requires any Federal agency that determines that its action may adversely affect EFH to consult with NMFS. Section 305(b)(2) of the Magnuson-Stevens Act defines a Federal action as “any action authorized, funded, or undertaken, or proposed to be authorized, funded, or undertaken, by such agency that may adversely affect any essential fish habitat identified under this Act.” The consultation process is fully described in the EFH regulations at 50 CFR 600.920. In order for NMFS to conduct this consultation the Federal action agency provides an EFH assessment commensurate with the complexity and magnitude of the potential adverse effects of the action.

After receiving a request for consultation and accompanying EFH assessment, NMFS must develop Conservation Recommendations for those actions that would adversely affect EFH, aimed at the need to avoid, minimize, mitigate, or offset adverse effects of the proposed action. NMFS must also provide Conservation Recommendations for those Federal and state actions that would adversely affect EFH in situations where consultation has not been requested. Upon receiving the recommended conservation measures, the Federal action agency must provide a detailed written response within 30 days, indicating the proposed measures to avoid or minimize adverse impacts on EFH. If the response is inconsistent with NMFS Conservation Recommendations, the Federal agency must explain its reasons for not following the recommendations, including the scientific justification for any disagreements with NMFS over the anticipated effects of the action and the measures needed to avoid, minimize, mitigate, or offset such effects.

Distinction Between EFH and Critical Habitat

EFH responsibilities under the Magnuson-Stevens Act should not be confused with the mandate to designate critical habitat under the ESA. Congress enacted these two statutes with very different purposes in mind. One of the purposes of the Magnuson-Stevens Act is to promote domestic commercial and recreational fisheries. In amending the Magnuson-Stevens Act, Congress found that:

[o]ne of the greatest long-term threats to the viability of commercial and recreational fisheries is the continuing loss of marine, estuarine, and other aquatic habitats. Habitat considerations should receive increased attention for the conservation and management of fishery resources of the United States. 16 U.S.C 1801(a)(9).

Under the Magnuson-Stevens Act, Congress established the mandate to identify and describe EFH in order to support the habitat needs of federally managed fish stocks to aid in ensuring long-term sustainable fisheries.

The definition of EFH within the Magnuson-Stevens Act, as well as the EFH implementing regulations (EFH Final Rule), establishes a basis for broader geographic areas to be identified and described as EFH, compared with those areas designated as critical habitat. The Magnuson-Stevens Act defines EFH as “those areas necessary to fish for spawning, breeding, feeding, or growth to maturity.” 16 U.S.C. 1802(10). The EFH Final Rule provides a mechanism for aiding the fishery management councils in determining the extent of EFH for the managed species. While the EFH Final Rule emphasizes that EFH should be distinguished from all habitats potentially used by the managed species, it also states that “[a]reas described as EFH will normally be greater than or equal to aquatic areas that have been identified as 'critical habitat' for any managed species listed as threatened or endangered under the [ESA].” 50 CFR 600.815(a)(1)(iv)(D). In addition, the EFH Final Rule provides the opportunity to increase the size of the area identified as EFH to include historic and/or degraded habitats where habitat loss may be contributing to reduced yield of the managed species.

In contrast, the ESA was enacted “to provide a means whereby the ecosystems upon which endangered species and threatened species depend may be conserved” and “to provide a program for the conservation of such endangered species and threatened species.” 16 U.S.C. 1531(b). The ESA specifically articulates that:

the term 'critical habitat' for a threatened or endangered species means -

1. the specific areas within the geographic area occupied by the species at the time it is listed . . . on which are found those physical or biological features essential to the conservation of the species and . . . which may require special management considerations and protections; and

2. specific areas outside the geographic area occupied by the species at the time it is listed . . . upon a determination by the Secretary that such areas are essential for the conservation of the species. 16 U.S.C. 1532(5)(A).

The definition of critical habitat in the ESA also indicates that “except in those situations determined by the Secretary, critical habitat shall not include the entire geographic area which can be occupied by the threatened or endangered species.” 16 U.S.C. 1532(5)(C). While the ESA's implementing regulations regarding critical habitat set forth procedures for designating areas outside the current area occupied by the species, unlike EFH in the Magnuson-Stevens Act, the ESA regulations also allow the agency to exclude certain areas from critical habitat, or not designate at all, in certain situations.

When the geographic locations of EFH and critical habitat overlap, the individual consultation requirements under the ESA and the Magnuson-Stevens Act both apply. If a Federal agency determines that its action may adversely affect EFH and may affect critical habitat, it must consult with NMFS under the ESA and Magnuson-Stevens Act. In these circumstances, NMFS will generally merge the consultations into one response package, whenever possible, to maximize efficiency.

Classification

This proposed rule is published under the authority of the Magnuson-Stevens Act, 16 U.S.C. 1801 et seq.

The NMFS Northwest Region completed an ESA section 7 consultation on November 18, 1999, on the effects of Amendment 14 on listed salmon evolutionarily significant units. Amendment 14 does not by itself authorize any fishing or other activity that would result in adverse effects to listed fish or designated critical habitat. Based on this and other considerations, NMFS concluded that Amendment 14 and its implementing regulations are not likely to adversely affect listed salmon or their critical habitat. This proposed rule is consistent with the determination in Amendment 14 that the action does not jeopardize the continued existence of ESA listed salmon.

The Chief Counsel for Regulation of the Department of Commerce certified to the Chief Counsel for Advocacy of the Small Business Administration that this proposed rule, if adopted, would not have a significant economic impact on a substantial number of small entities, as follows:

The objective of this rule is to codify essential fish habitat (EFH) descriptions and identifications that were previously approved by the Secretary of Commerce (Secretary)for Amendment 14 to the Pacific Salmon Fishery Management Plan. EFH descriptions and identifications are required under the Magnuson Fisheries Conservation and Management Act (16 U.S.C. 1802(b)(7). All vessels harvesting salmon from this fishery are considered small under the Small Business Act approved definition of a small fish harvester (average gross receipts not in excess of $4.0 million). Therefore, there can be no disproportionate impacts between small and large vessels. Furthermore, there are no disproportionate impacts based on homeport, gear type, or vessel size from the promulgation of this proposed rule. In 2004, there were 3,008 permits issued for this fishery, with a total exvessel value of $28,961,275. Of the 3,008 permits, only 910 actually landed salmon. There were 1508 vessel permits issued in California, 738 of which landed salmon, for an exvessel value of $17,883,216. There were 1,181 vessel permits issued in Oregon, 595 of which landed salmon, for an exvessel value of $9,893,065. There were 160 vessel permits issued in Washington, 86 of which landed salmon, for an exvessel value of $1,184,994. This rule would not result in any immediate impacts on revenues or costs for the small entities participating in the Pacific salmon fishery because it does not contain any new management measures that would have specific economic impact on the fishery. However, future rulemakings that are promulgated by NMFS on behalf of the Secretary may be based in part on the identification and description of the EFH and such actions would likely have specific measurable impacts on the small entities participating in the fishery.

As a result, an initial regulatory flexibility analysis is not required and none has been prepared. NMFS will conduct the appropriate analyses for any subsequent rulemakings stemming from this proposed rule.

This proposed rule is not significant for the purposes of Executive Order 12866 (Supplemental Regulatory Impact Review to Amendment 14 to the Pacific Salmon Fishery Management Plan was prepared, see ADDRESSES).

List of Subjects in 50 CFR Part 660

Administrative practice and procedure, Fisheries, Fishing, Incorporation by reference, Reporting and recordkeeping requirements.

Dated: April 12, 2007.
Samuel D. Rauch III,
Deputy Assistant Administrator For Regulatory Programs, National Marine Fisheries Service.

For the reasons set out in the preamble, NMFS proposes to amend 50 CFR part 660 as follows:

PART 660—FISHERIES OFF WEST COAST STATES

1. The authority citation for part 660 continues to read as follows:

Authority: 16 U.S.C. 1801 et seq.

2. Section 660.412 is added under subpart H to read as follows:

§ 660.412 EFH identifications and descriptions for Pacific salmon.

Pacific salmon essential fish habitat (EFH) includes all those water bodies occupied or historically accessible in Washington, Oregon, Idaho, and California in hydrologic units identified in Table 1 of this subpart. Exceptions include cases in which man-made barriers (dams) identified in Table 1 of this subpart represent the upstream extent of Pacific salmon access. EFH also includes the EEZ (from zero to 200 miles) off the coasts of California, Oregon, and Washington State.

(a) Chinook salmon (Oncorhynchus tshawytscha) EFH includes all streams, estuaries, marine waters, and other water bodies occupied or historically accessible to Chinook salmon in Washington, Oregon, Idaho, and California, in hydrologic units identified in Table 1 of this subpart. Exceptions include cases in which man-made barriers (dams) identified in Table 1 of this subpart represent the upstream extent of Pacific salmon access. EFH also includes the EEZ (from zero to 200 miles) off the coasts of Washington, Oregon, and California north of Point Conception.

(b) Coho salmon (Oncorhynchus kisutch) EFH includes all streams, estuaries, marine waters, and other water bodies occupied or historically accessible to coho in Washington, Oregon, Idaho, and California, in hydrologic units identified in Table 1 of this subpart. Exceptions include cases in which man-made barriers (dams) identified in Table 1 of this subpart represent the upstream extent of Pacific salmon access. EFH also includes the EEZ (from zero to 200 miles) off the coasts Washington, Oregon, and California north of Point Conception.

(c) Pink salmon (Oncorhynchus gorbuscha) EFH includes all streams, estuaries, marine waters, and other water bodies occupied or historically accessible to pink salmon within Washington State, in hydrologic units identified in Table 1 of this subpart. Exceptions include cases in which man-made barriers (dams) identified in Table 1 of this subpart represent the upstream extent of Pacific salmon access. EFH also includes waters north and east of Cape Flattery, Washington, including Puget Sound, the Strait of Juan de Fuca and the Strait of Georgia.

3. Table 1 to part 660, subpart H is added to read as follows:

Table 1 to Part 660, Subpart H—Pacific Salmon EFH Identified by USGS Hydrologic Unit Code (HUC)
USGS HUC¹ | State(s) | Hydrologic Unit Name | Salmon Species | Impassible Man-made Barrier (if present)
17110001 | WA | Fraser (Whatcom) | Coho salmon | n/a
17110002 | WA | Strait of Georgia | Chinook, coho, and pink salmon | n/a
17110003 | WA | San Juan Islands | Chinook, coho, and pink salmon | n/a
17110004 | WA | Nooksack River | Chinook, coho, and pink salmon | n/a
17110005 | WA | Upper Skagit | Chinook, coho, and pink salmon | Gorge Lake Dam
17110006 | WA | Sauk River | Chinook, coho, and pink salmon | n/a
17110007 | WA | Lower Skagit River | Chinook, coho, and pink salmon | n/a
17110008 | WA | Stillaguamish River | Chinook, coho, and pink salmon | n/a
17110009 | WA | Skykomish River | Chinook, coho, and pink salmon | n/a
17110010 | WA | Snoqualmie | Chinook, coho, and pink salmon | Tolt Dam (S. Fork Tolt R.)
17110011 | WA | Snohomish River | Chinook, coho, and pink salmon | n/a
17110012 | WA | Lake Washington | Chinook and coho salmon | Cedar Falls (Masonry) Dam (Cedar R.)
17110013 | WA | Duwamish River | Chinook and coho salmon | n/a
17110014 | WA | Puyallup River | Chinook, coho, and pink salmon | n/a
17110015 | WA | Nisqually River | Chinook, coho, and pink salmon | n/a
17110016 | WA | Deschutes River | Chinook and coho salmon | n/a
17110017 | WA | Skokomish River | Chinook and coho salmon | n/a
17110018 | WA | Hood Canal | Chinook, coho, and pink salmon | n/a
17110019 | WA | Puget Sound | Chinook, coho, and pink salmon | n/a
17110020 | WA | Dungeness - Elwha | Chinook, coho, and pink salmon | n/a
17110021 | WA | Hoko - Crescent | Chinook and coho salmon | n/a
17100101 | WA | Hoh Quillayute | Chinook and coho salmon | n/a
17100102 | WA | Queets - Quinault | Chinook and coho salmon | n/a
17100103 | WA | Upper Chehalis River | Chinook and coho salmon | n/a
17100104 | WA | Lower Chehalis River | Chinook and coho salmon | n/a
17100105 | WA | Grays Harbor | Chinook and coho salmon | n/a
17100106 | WA | Willapa Bay | Chinook and coho salmon | n/a
17080001 | OR/WA | Lower Columbia Sandy River | Chinook and coho salmon | Bull Run Project (Sandy R., Little Sandy R., Bull Run R.)
17080002 | WA | Lewis River | Chinook and coho salmon | n/a
17080003 | OR/WA | Lower Columbia - Clatskanie River | Chinook and coho salmon | n/a
17080004 | WA | Upper Cowlitz River | Chinook and coho salmon | n/a
17080005 | WA | Lower Cowlitz River | Chinook and coho salmon | n/a
17080006 | OR/WA | Lower Columbia | Chinook and coho salmon | n/a
17090001 | OR | Middle Fork Willamette River | Chinook salmon | Dexter Dam
17090002 | OR | Coast Fork Willamette River | Chinook salmon | Dorena Dam
17090003 | OR | Upper Willamette River | Chinook and coho salmon | n/a
17090004 | OR | McKenzie River | Chinook and coho salmon | Cougar Dam
17090005 | OR | N. Santiam River | Chinook and coho salmon | Big Cliff Dam
17090006 | OR | S. Santiam River | Chinook and coho salmon | n/a
17090007 | OR | Mid. Willamette River | Chinook and coho salmon | n/a
17090008 | OR | Yamhill River | Chinook and coho salmon | n/a
17090009 | OR | Molalla - Pudding River | Chinook and coho salmon | n/a
17090010 | OR | Tualatin River | Chinook and coho salmon | n/a
17090011 | OR | Clackamas River | Chinook and coho salmon | Oak Grove Dam
17090012 | OR | Lower Willamette River | Chinook and coho salmon | n/a
17070101 | OR/WA | Mid. Columbia - Lake Wallula | Chinook and coho salmon | n/a
17070102 | OR/WA | Walla Walla River | Chinook salmon | n/a
17070103 | OR | Umatilla River | Chinook salmon | n/a
17070104 | OR | Willow | Chinook salmon | n/a
17070105 | OR/WA | Mid. Columbia - Hood | Chinook and coho salmon | n/a
17070106 | WA | Klickitat River | Chinook and coho salmon | n/a
17070301 | OR | Upper Deschutes River | Chinook salmon | n/a
17070305 | OR | Lower Crooked River | Chinook salmon | Opal Springs Dam
17070306 | OR | Lower Deschutes River | Chinook and coho salmon | n/a
17070307 | OR | Trout Creek | Chinook and coho salmon | n/a
17070201 | OR | Upper John Day River | Chinook salmon | n/a
17070202 | OR | North Fork John Day River | Chinook salmon | n/a
17070203 | OR | Middle Fork John Day River | Chinook salmon | n/a
17070204 | OR | Lower John Day River | Chinook salmon | n/a
17030001 | WA | Upper Yakima River | Chinook and coho salmon | Keechelus Dam Kachess Dam (Kachess R.) Cle Elum Dam (Cle Elum R.)
17030002 | WA | Naches River | Chinook and coho salmon | Rimrock Dam (Tieton R.)
17030003 | WA | Lower Yakima River | Chinook and coho salmon | n/a
17020005 | WA | Columbia River | Chinook and coho salmon | Chief Joseph Dam
17020006 | WA | Okanogan River | Chinook salmon | n/a
17020007 | WA | Similkameen | Chinook salmon | n/a
17020008 | WA | Methow River | Chinook and coho salmon | n/a
17020010 | WA | Upper Columbia - Entiat River | Chinook and coho salmon | n/a
17020011 | WA | Wenatchee River | Chinook and coho salmon | n/a
17020016 | WA | Upper Columbia - Priest Rapids | Chinook and coho salmon | n/a
17060101 | OR/ID | Hells Canyon | Chinook salmon | Hells Canyon Complex (Hells Canyon, Oxbow, and Brownlee Dams)
17060102 | OR | Imnaha River | Chinook salmon | n/a
17060103 | OR/WA/ID | Lower Snake - Asotin Creek | Chinook and coho salmon | n/a
17060104 | OR | Upper Grande Ronde | Chinook and coho salmon | n/a
17060105 | OR | Wallowa River | Chinook and coho salmon | n/a
17060106 | OR/WA | Lower Grande Ronde | Chinook and coho salmon | n/a
17060107 | OR | Lower Snake - Tucannon River | Chinook and coho salmon | n/a
17060110 | OR | Lower Snake River | Chinook and coho salmon | n/a
17060201 | ID | Upper Salmon River | Chinook salmon | n/a
17060202 | ID | Pahsimeroi River | Chinook salmon | n/a
17060203 | ID | Mid. Salmon - Panther River | Chinook salmon | n/a
17060204 | ID | Lemhi River | Chinook salmon | n/a
17060205 | ID | Upper Middle Fork Salmon River | Chinook salmon | n/a
17060206 | ID | Lower Middle Fork Salmon River | Chinook salmon | n/a
17060207 | ID | Mid. Salmon - Chamberlain | Chinook salmon | n/a
17060208 | ID | S.F. Salmon River | Chinook salmon | n/a
17060209 | ID | Lower Salmon River | Chinook salmon | n/a
17060210 | ID | Little Salmon River | Chinook salmon | n/a
17060301 | ID | Upper Selway River | Chinook salmon | n/a
17060302 | ID | Lower Selway River | Chinook salmon | n/a
17060303 | ID | Lochsa River | Chinook salmon | n/a
17060304 | ID | M.F. Clearwater River | Chinook salmon | n/a
17060305 | ID | S.F. Clearwater River | Chinook salmon | n/a
17060306 | WA/ID | Clearwater River | Chinook and coho salmon | Dworshak Dam (at border of HUCs 17060306 and 17060308)
17100201 | OR | Necanicum River | Chinook and coho salmon | n/a
17100202 | OR | Nehalem River | Chinook and coho salmon | n/a
17100203 | OR | Wilson - Trask - Nestucca | Chinook and coho salmon | n/a
17100204 | OR | Siletz Yaquina River | Chinook and coho salmon | n/a
17100205 | OR | Alsea River | Chinook and coho salmon | n/a
17100206 | OR | Siuslaw River | Chinook and coho salmon | n/a
17100207 | OR | Siltcoos River | Chinook and coho salmon | n/a
17100301 | OR | N. Umpqua River | Chinook and coho salmon | Soda Springs Dam
17100302 | OR | S. Umpqua River | Chinook and coho salmon | n/a
17100303 | OR | Umpqua River | Chinook and coho salmon | n/a
17100304 | OR | Coos River | Chinook and coho salmon | n/a
17100305 | OR | Coquille River | Chinook and coho salmon | n/a
17100306 | OR | Sixes River | Chinook and coho salmon | n/a
17100307 | OR | Upper Rogue River | Chinook and coho salmon | Lost Creek Dam
17100308 | OR | Middle Rogue River | Chinook and coho salmon | n/a
17100309 | CA/OR | Applegate River | Chinook and coho salmon | Applegate Dam
17100310 | OR | Lower Rogue River | Chinook and coho salmon | n/a
17100311 | CA/OR | Illinois River | Chinook and coho salmon | n/a
17100312 | CA/OR | Chetco River | Chinook and coho salmon | n/a
18010101 | CA/OR | Smith River | Chinook and coho salmon | n/a
18010206 | CA/OR | Upper Klamath River | Chinook and coho salmon | Iron Gate Dam
18010207 | CA | Shasta River | Chinook and coho salmon | n/a
18010208 | CA | Scott River | Chinook and coho salmon | n/a
18010209 | CA/OR | Lower Klamath River | Chinook and coho salmon | n/a
18010210 | CA | Salmon River | Chinook and coho salmon | n/a
18010211 | CA | Trinity River | Chinook and coho salmon | Lewiston Dam
18010212 | CA | S.F. Trinity River | Chinook and coho salmon | n/a
18010102 | CA | Mad Redwood | Chinook and coho salmon | Robert W. Matthews Dam
18010103 | CA | Upper Eel River | Chinook and coho salmon | Scott Dam
18010104 | CA | Middle Fork Eel River | Chinook and coho salmon | n/a
18010105 | CA | Lower Eel River | Chinook and coho salmon | n/a
18010106 | CA | South Fork Eel River | Chinook and coho salmon | n/a
18010107 | CA | Mattole River | Chinook and coho salmon | n/a
18010108 | CA | Big-Navarro-Garcia | Chinook and coho salmon | n/a
18010109 | CA | Gualala - Salmon Creek | Chinook and coho salmon | n/a
18010110 | CA | Russian River | Chinook and coho salmon | Coyote Valley Dam (E. Fork Russian R.) Warm Springs Dam (Dry Cr.)
18010111 | CA | Bodega Bay | Chinook and coho salmon | n/a
18060001 | CA | San Lorenzo Soquel | Coho salmon | Newell Dam (Newell Cr.)
18060006 | CA | Central Coastal | Coho salmon | n/a
18050001 | CA | Suisun Bay | Chinook and coho salmon | n/a
18050002 | CA | San Pablo Bay | Chinook and coho salmon | San Pablo Dam (San Pablo Cr.)
18050003 | CA | Coyote Creek | Chinook and coho salmon | LeRoy Anderson Dam
18050004 | CA | San Francisco Bay | Chinook and coho salmon | n/a
18050005 | CA | Tomales-Drakes Bay | Coho salmon | Nicasio Dam (Nicasio Cr.) Peters Dam (Lagunitas Cr.)
18050006 | CA | San Francisco-Coastal South | Coho salmon | n/a
18020101 | CA | Sac.-Lower Cow-Lower Clear | Chinook salmon | n/a
18020102 | CA | Lower Cottonwood Creek | Chinook salmon | n/a
18020103 | CA | Sacramento - Lower Thomes | Chinook salmon | n/a
18020104 | CA | Sacramento - Stone Corral | Chinook salmon | n/a
18020105 | CA | Lower Butte Creek | Chinook salmon | n/a
18020106 | CA | Lower Feather River | Chinook salmon | n/a
18020107 | CA | Lower Yuba River | Chinook salmon | n/a
18020108 | CA | Lower Bear River | Chinook salmon | n/a
18020109 | CA | Lower Sacramento River | Chinook salmon | n/a
18020110 | CA | Lower Cache | Chinook salmon | n/a
18020111 | CA | Lower American River | Chinook salmon | Nimbus Dam
18020112 | CA | Sacramento-Upper Clear | Chinook salmon | Keswick Dam (Sacramento R.) Whiskeytown Dam (Clear Cr.)
18020113 | CA | Cottonwood Headwaters | Chinook salmon | n/a
18020114 | CA | Elder Creek | Chinook salmon | n/a
p | CA | River | Chinook salmon | n/a
18020118 | CA | Upper Cow - Battle Creek | Chinook salmon | n/a
18020119 | CA | Mill - Big Chico | Chinook salmon | n/a
18020120 | CA | Upper Butte Creek | Chinook salmon | n/a
18020125 | CA | Upper Yuba | Chinook salmon | n/a
18040001 | CA | Mid. San Joaquin- L. Cowchilla | Chinook salmon | n/a
18040002 | CA | Mid. San Joaquin- L. Merced- L. Stanislaus | Chinook salmon | La Grange Dam (Tuolumne R.)
18040003 | CA | San Joaquin Delta | Chinook salmon | n/a
18040004 | CA | L. Calaveras - Mormon Slough | Chinook salmon | n/a
18040005 | CA | L. Consumnes- L. Mokelumne | Chinook salmon | Comanche Dam
18040010 | CA | Upper Stanislaus | Chinook salmon | Goodwin Dam
18040011 | CA | Upper Calveras | Chinook salmon | New Hogan Dam
18040013 | CA | Upper Cosumnes | Chinook salmon | n/a
1. To clearly identify watersheds that contain EFH, NMFS uses fourth field hydrologic unit codes (HUCs) developed by the U.S. Geological Survey (USGS) (defined in the Department of the Interior, USGS publication; Hydrologic Unit Maps, Water Supply Paper 2294, 1987). The geographic extent of HUCs range from first field (largest geographic extent) to sixth field (smallest geographic extent). Fourth field HUCs divide the landscape into distinct geographic areas that are identified by eight numbers unique to that hydrologic unit.

[FR Doc. 07-1946 Filed 4-19-07; 8:45 am]

BILLING CODE 3510-22-S